NATIONAL AERONAUTICS AND SPACE ADMINISTRATION

[Document Number NASA-21-038; Docket Number-NASA-2021-0002]

Request for Information on Advancing Racial Equity and Support for Underserved Communities in NASA Programs, Contracts and Grants Process

AGENCY: National Aeronautics and Space Administration (NASA).

ACTION: Request for information (RFI).

SUMMARY: The National Aeronautics and Space Administration (NASA) is issuing this Request for Information (RFI) to receive input from the public on NASA's mission directorates' programs, procurements, grants, regulations and policies. NASA will use this information to evaluate, implement, modify, expand, and streamline its programs, procurements, grants, regulations and policies to remove systemic inequitable barriers and challenges facing underserved communities. NASA will also use advanced research, data collection and technologies to assist in inter and intra-agency execution of this Administration's policy to advance equity for all, including people of color and others who have been historically underserved, marginalized, and adversely affected by persistent poverty and inequality.

DATES: Comments are requested on or before July 12, 2021. Early comments are encouraged. Comments received after this date will be considered for future advisory, communicative and outreach efforts to the extent practicable.

ADDRESSES:

• Comments must be identified with the Agency's name and Docket Number NASA-2021-0002 and may be sent to NASA via the Federal E-Rulemaking Portal: http://www.regulations.gov. Follow the online instructions for submitting comments. All public comments received are subject to the Freedom of Information Act and will be posted in their entirety at https://www.regulations.gov/, including any personal and/or business confidential information provided. Do not include any information you would not like to be made publicly available.

• Mail: Comments submitted in a manner other than the one listed above, including emails or letters sent to OP or OSBP officials may not be accepted.

• Hand Delivery: Please note that NASA cannot accept any comments that are hand delivered or couriered. In addition, NASA cannot accept comments contained on any form of digital media storage devices, such as CDs/DVDs and USB drives. If you cannot submit your comment by using http://www.regulations.gov, please contact (include regulatory POC name, telephone, and address) for alternate instructions.

FOR FURTHER INFORMATION CONTACT: Issues regarding submission or questions on this RFI can be sent to Dorice Kenely, Procurement Analyst, Office of Procurement at (202) 358-0443 or dorice.m.kenely@nasa.gov.

SUPPLEMENTARY INFORMATION:

I. Background

NASA is issuing this Request for Information (RFI) to receive input from the public on NASA's mission directorates' programs, procurements, grants, regulations and policies. NASA will use this information to evaluate, implement, modify, expand, and streamline its programs, procurements, grants, regulations and policies to remove systemic inequitable barriers and challenges facing underserved communities. NASA will also use advanced research, data collection and technologies to assist in inter and intra-agency execution of the President's Executive Order 13985, entitled “Advancing Racial Equity and Support for Underserved Communities Through the Federal Government” (Equity E.O.), signed by the President on January 20, 2021. Pursuant to the Equity E.O. agencies were asked to “assess whether, and to what extent, its programs and policies perpetuate systemic barriers to opportunities and benefits for people of color and other underserved groups.” These efforts will help foster NASA's vision to benefit the quality of life for all on Earth; NASA's mission to explore, use and enable the development of space for human enterprise through research, development and transfer of advanced aeronautics, space and related technologies, Economic Growth and Security, and Educational Excellence; and NASA's goal to enrich our Nation's society and economy with a fair and equitable approach.

NASA seeks this input pursuant to the Equity E.O. to create a whole-of-government approach to advance equity for those who have been historically underserved and adversely impacted due to systemic programmatic and policy inequities. The E.O. requires agencies to review existing programs, practices and policies to assess: (1) Potential systemic barriers to accessing agencies' benefits and services for people of color and other underserved communities and individuals; (2) potential systemic barriers that underserved and underrepresented communities and individuals may face in agency procurement, and contracting, and grant opportunities; (3) whether new policies, regulations, or guidance documents may be necessary to advance equity in agency actions and programs; and (4) how agencies' resources and tools can assist in enhancing equity.

The Equity E.O. defines the following terms noted below and these terms are used throughout this RFI:

• The term “equity” means the consistent and systematic fair, just, and impartial treatment of all individuals, including individuals who belong to underserved communities that have been denied such treatment, Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality.

• The term “underserved communities” refers to populations sharing a particular characteristic, as well as geographic communities, that have been systematically denied the full opportunity to participate in aspects of economic, social, and civic life, as exemplified by the list in the preceding definition of “equity.”

• The term “environmental justice,” referenced in E.O. 14008, Tackling the Climate Crisis at Home and Abroad, dated January 27, 2021, and defined in the White House Environmental Justice Advisory Council Final Recommendations to Executive Order 12898 Revisions released May 21, 2021, is the just treatment and meaningful involvement of all people regardless of race, color, national origin, or income, or ability, with respect to the development, implementation, enforcement, and evaluation of laws, regulations, programs, policies, practices, and activities, that affect human health and the environment. This term will also be used throughout this RFI.

NASA inspires the Nation by advancing understanding of the Earth and space sending astronauts and robotic missions to explore the solar system and developing new technologies and approaches to improve aviation and space activities. Our work benefits Americans and all humanity. Today, our Nation's economic prosperity, National security, and cultural identity depend on our leadership in aeronautics, space exploration, and science. NASA accepts the challenge to continue our legacy of achievement and greatly expand the benefits we provide to mankind. Descriptions have been provided for the following NASA Offices mentioned in this RFI.

II. NASA Offices

The Office of STEM Engagement delivers tools for young Americans and educators to learn and succeed. OSTEM seeks to: (1) Create unique opportunities for a diverse set of students to contribute to NASA's work in exploration and discovery; (2) Build a diverse future STEM workforce by engaging students in authentic learning experiences with NASA's people, content and facilities; and (3) Attract diverse groups of students to STEM through learning opportunities that spark interest and provide connections to NASA's mission and work. For more information on OSTEM, see https://www.nasa.gov/stem/about.html.

The Science Mission Directorate (SMD) expands the frontiers of Earth science, heliophysics, planetary science, and astrophysics. Using robotic observatories, explorer craft, ground-based instruments, and a peer-reviewed portfolio of sponsored research, SMD seeks knowledge about our solar system, the farthest reaches of space and time, and our changing Earth. For more information on SMD, see https://science.nasa.gov.

The Space Technology Mission Directorate (STMD) develops transformative space technologies to enable NASA's future missions. NASA's investments in revolutionary, American-made technologies provide solutions on Earth and in space. For more information on STMD Programs, see https://www.nasa.gov/directorates/spacetech/home/index.html.

The Office Chief Financial Officer, Grants Policy and Compliance (GPC) Branch provides leadership and oversight in grants management policy and compliance and internal guidance and training to NASA Technical Officers, Grant Officers, and the Grants Community implementing government-wide and NASA specific regulations for awarding and administering grants and cooperative agreements. In Fiscal Year 2019, NASA issued $1.1 Billion in grants and cooperative agreements. Each year NASA issues 1,977 new awards and provides policy guidance and instruction for 6,646 awards. For more information on GPC, see https://www.nasa.gov/offices/ocfo/gpc.

The Office of Procurement (OP) oversees the acquisition process to support successful accomplishment of the Agency's current and future missions. OP provides policy, oversight, and optimization of procurement resources, and supports Mission Directorate acquisition strategies to enable more efficient operations for the Agency. For more information on OP, see https://www.nasa.gov/office/procurement.

The Office of Small Business Programs (OSBP) at NASA Headquarters promotes and integrates all small businesses into the competitive base of contractors that pioneer the future of space exploration, scientific discovery, and aeronautics research. For more information on OSBP, see https://www.nasa.gov/osbp.

III. Discussion of Questions

To support and achieve the objectives of the Equity E.O., NASA is conducting an internal assessment of mission programs and mission support programs and is soliciting public input to better understand and identify the systemic barriers and challenges facing people of color and other underserved communities to access and participate in NASA programs, contracts, and grants processes. The information and input from this RFI will assist the Agency with addressing gaps in equity while utilizing advanced science-based data and transfer technologies for environmental protection, climate resiliency and environmental justice. The following list of questions and topic areas are intended to guide the public in this effort:

Barriers/Gaps to Accessing Current NASA Grants, Programs and Procurements

1. What challenges, issues, or obstacles have been encountered with the scientific competition and award implementation processes, especially the challenges, issues, or obstacles that impact underserved communities?

2. What are some tools that NASA should consider for purposes of increasing access to information related to Notice of Funding Opportunities or grant programs to reach communities that are historically underserved and underrepresented by NASA and the federal government more broadly?

3. What resources could NASA provide to better assist underserved communities with identifying new opportunities to partner with NASA or access its grants, programs or data?

4. What are some of the best practices that NASA could put in place to ensure individuals and organizations from underserved communities have the necessary access, information, and tools to partner with NASA?

5. Are NASA Funding Opportunities clear in the description of eligibility requirements for underserved communities? If not, how can they be improved?

6. How might NASA better assist individuals and institutions from underserved communities in identifying financial assistance opportunities funded by NASA that they are eligible to win?

7. Besides NSPIRES and Grants.gov, where else could financial assistance opportunities be posted, advertised, or communicated to better reach underserved communities and individuals?

8. How might NASA improve its financial assistance application process to better assist individuals and institutions; what resources could NASA provide to assist underserved communities?

9. Is there a specific NASA regulation, policy, or requirement that presents barriers to individuals and institutions that are part of underserved communities from identifying or applying for NASA financial assistance opportunities or implementing a financial assistance award?

10. What challenges do NASA financial assistance recipients face when developing and implementing policies and procedures that advance diversity and inclusion and/or equity for underserved communities?

11. What resources could NASA provide to assist with the development or implementation of policies and procedures that advance diversity and inclusion and/or equity for underserved communities?

12. What challenges do NASA financial assistance recipients face regarding compliance with nondiscrimination laws, such as Title VI of the Civil Rights Act of 1964, Title IX of the Education Amendments of 1972, Section 504 of the Rehabilitation Act of 1973, or the Age Discrimination Act of 1975? What role can NASA play in addressing those challenges?

13. What practical, complex and technologically innovative steps that, if implemented, could reduce barriers and challenges perceived or encountered by vendors/aspiring contractors when participating in the procurement process?

14. What policies, regulations, or guidance documents should NASA add, revise, or remove to advance equity for underserved communities in the procurement process?

15. What barriers do academic, non-profit or philanthropic institutions face to accessing and using NASA data, science and technology to address environmental justice and other equity challenges facing underserved communities?

16. What barriers or challenges do institutions or organizations face in recruiting diverse students from underserved communities to apply to and participate in internships or similar work-based learning experiences (e.g., research opportunities, coops, externships)?

17. What barriers or challenges do institutions or organizations face in retaining diverse students from underserved communities who apply to and participate in internships or similar work-based learning experiences (e.g., research opportunities, coops, externships)?

Opportunities for NASA to Leverage Its Data, Expertise, Missions To Help Underserved Communities

1. How can NASA utilize SMD's scientific competition process to develop research and tools that will advance environmental justice, support rural, urban, and coastal communities, and address equity challenges facing underserved communities?

2. How can NASA better collaborate with academic research institutions, particularly Historically Black Colleges and Universities (HBCU), Hispanic Serving Institutions (HSI), and other Minority Serving Institutions (MSI), to advance environmental justice, support rural, urban, and coastal communities, and address equity challenges facing underserved communities?

3. What opportunities do you see for NASA research-to advance environmental justice, support rural, urban, and coastal communities, and address equity challenges facing underserved communities?

4. How can NASA better collaborate with non-profit and philanthropic organizations to advance environmental justice; support rural, urban, and coastal communities; and address equity challenges facing underserved communities?

5. How can NASA better collaborate with other federal, state, local, regional and Tribal authorities to advance environmental justice; support rural, urban, and coastal communities; and address equity challenges facing underserved communities?

6. What types of data are most needed that would assist academic, non-profit or philanthropic institutions in advancing environmental justice, supporting rural, urban, and coastal communities, and addressing equity challenges facing underserved communities?

7. What types of data are most needed that would assist academic, non-profit or philanthropic institutions in advancing environmental justice; supporting rural, urban, and coastal communities; and addressing equity challenges facing underserved communities?

8. What other opportunities are there for NASA to leverage its data, expertise, and missions to address challenges facing rural, urban, and coastal areas; communities of color; persons with disabilities; persons otherwise adversely affected by persistent poverty or inequality; and other members of underserved communities?

Engagement and Outreach With Organizations and Individuals From Underserved Communities

1. How can the NASA Office of Small Business Programs (OSBP) improve the effectiveness of its outreach events to include better representation and substantive participation from small businesses owned or operated by leaders from underserved communities? (virtual and in-person)

2. What can OSBP do to better engage underrepresented communities in NASA's outreach and small business events?

3. How can OSBP improve the OSBP Mobile App in being more effective in providing small business information to underrepresented communities?

4. What organizations should NASA partner with to ensure underrepresented communities are represented in the awarding of NASA grants and cooperative agreements?

5. What products or outreach materials are most effective in reaching underserved or underrepresented communities for grant and procurement opportunities?

6. What mediums would be the best to advertise NASA grants and cooperative agreements in order to reach HBCUs, HSIs and other MSIs and other institutions focused on advancing racial justice and/or equity for underserved communities?

7. What are some of the workshops/conferences supporting underserved communities that could benefit from NASA's presence? What types of information would you like to see NASA present at these workshops/conferences?

8. Do you know how to reach a contracting/procurement staff member to share your capability statement, and conduct business with NASA?

9. What is the best way for NASA to reach your members of underserved communities when announcing available procurement actions?

10. How should NASA enhance or change its communication and outreach engagements to ensure that members of underserved communities are made of aware of procurement opportunities and have a fair opportunity to compete for such opportunities?

11. In addition to our normal modes of publicizing and sharing information about our procurements (e.g., Fedbizopps, Industry Days, Public Meetings etc.), what other tools should NASA use to share information about available procurements to reach a wider audience that includes businesses, institutions and individuals not typically engaged with NASA?

12. What professional associations and organizations should NASA contact to reach members of underserved communities to provide information about available procurement opportunities that align with their capabilities and policy and process changes that impact their operations?

13. What resources or avenues can NASA expand upon to bring awareness to underrepresented and underserved communities and improve their participation and outcomes, including HBCUs and MSIs? For example, how might NASA expand participation through the following STMD programs:

• NASA maintains a portfolio of patents with commercial potential and makes them available to the public through our patent license program. Further, NASA's Software Catalog offers hundreds of new free software products for a wide variety of technical applications. These resources offer the opportunity for entrepreneurs to build new products and companies, generating economic impact and jobs.

• NASA offers devoted research and development funding to small businesses and entrepreneurs through the SBIR/STTR programs, which also offer pathways to directed procurements from NASA.

• NASA offers a host of research and development grants to universities and other innovators through the Space Technology Research (STRG) and NASA Innovative Advanced Concepts (NIAC) programs, which engage faculty, students and university research teams.

• NASA makes opportunities available for public participation in NASA research and technology solutions to support NASA missions and inspire new national aerospace capabilities through the Prizes, Challenges and Crowdsourcing Program.

For more information on other STMD programs, including technology transfer, and funding opportunities, see: https://www.nasa.gov/directorates/spacetech/home/index.html and https://www.nasa.gov/directorates/spacetech/solicitations.

Diversity and Equal Opportunity at NASA and in the STEM Community

1. What strategies should NASA consider in creating more diverse and inclusive workforces and what best practices have been established to remove or lessen these challenges?

2. What strategies should NASA consider to ensure opportunity and accessibility to particular groups, such as individuals with disabilities, or limited English proficient individuals?

3. What best practices should NASA adopt in conducting outreach to members of underserved communities including to enhance employment and program participation opportunities?

4. What diversity, equity, inclusion, and accessibility (DEIA) strategies should NASA implement to broaden the applicant pool of historically underrepresented and underserved students in internships or similar work-based learning experiences (e.g., research opportunities, coops, externships)?

5. What DEIA strategies should NASA implement to increase the participation of historically underrepresented and underserved students in internships or similar work-based learning experiences (e.g., research opportunities, coops, externships)?

6. What barriers or challenges do institutions or organizations face in recruiting diverse students from underserved communities to apply to and participate in internships or similar work-based learning experiences (e.g., research opportunities, coops, externships)?

7. What barriers or challenges do institutions or organizations face in retaining diverse students from underserved communities who apply to and participate in internships or similar work-based learning experiences (e.g., research opportunities, coops, externships)?

8. What DEIA strategies should NASA use to implement virtual internships or similar work-based learning experiences (e.g., research opportunities, coops, externships)?

9. What skills and competencies are intentionally being developed through internships and similar work-based learning experiences (e.g., research opportunities, coops, externships)?

10. What barriers or challenges do institutions or organizations face when collecting data or performing assessments to understand the outcomes of DEIA strategy implementation for internships or similar work-based learning experiences (e.g., research opportunities, coops, externships)?

11. What types of data collection, analysis, and reporting mechanisms should NASA use to assess the effectiveness and outcomes of internships or similar work-based learning experiences?

12. Does your institution or organization have any affinity groups or committees to support diverse populations access STEM/internships/work-based learning experiences? How does your organization or institution define diversity?

13. Does your institution offer any formal training to internship/work-based learning mentors around biases, anti-racism, or general DEIA?

IV. Written Comments

Written responses should not exceed 20 pages, inclusive of a 1-page cover page as described below. Attachments or linked resources or documents are not included in the 20-page limit. Please respond concisely, in plain language, and in narrative format. You may respond to some or all questions listed in the RFI. Please ensure it is clear which question you are responding to. You may also include links to online material or interactive presentations but please ensure all links are publicly available. Each response should include: (1) The name of the individual(s) and/or organization responding; (2) policy suggestions that your submission and materials support; (3) a brief description of the responding individual(s) or organization's mission and/or areas of expertise; and (4) a contact for questions or other follow-up on your response. Please note that this RFI is a planning document and will serve as such. The RFI should not be construed as policy, a solicitation for proposals, or an obligation on the part of the government. Interested parties who respond to this RFI may be contacted for a follow-on strategic agency assessment dialogue, discussion, event, crowdsource campaign, or competition.

V. Review of Public Feedback

NASA will use the public's feedback to help initiate strategic plans, consider reforms, and execute reports as required by the Equity E.O. NASA will also use the public's feedback to consider reduction of administrative burdens more broadly. This notice is issued solely for information and program-planning purposes. Public input provided in response to this notice does not bind NASA to any further actions, to include publishing a formal response or agreement to initiate a recommended change. NASA will consider the feedback and make changes or process improvements at its sole discretion.

NASA will continue a dialogue with industry and stakeholders to stay connected and engaged on barriers and challenges that impact members of the underserved communities. To that end, NASA will hold a public meeting on June 29, 2021, from 1:00 p.m. to 3:00 p.m. Please register at https://www.nasa.gov/mission-equity to hear and participate in discussions specifically about the barriers and challenges faced by members of underserved communities and recommendations for improving our practices and processes to advance racial equity and support underserved communities. As we get closer to the date for this event, additional information will be provided. Questions may be provided in advance; and we will do our best to address all questions during the event.

Nanette Smith,
Team Lead, NASA Directives and Regulations.

[FR Doc. 2021-12668 Filed 6-14-21; 8:45 am]

BILLING CODE 7510-13-P